DEPARTMENT OF COMMERCE

International Trade Administration

[A-821-817]

Silicon Metal From the Russian Federation: Final Results of Expedited Third Sunset Review of the Antidumping Duty Order

AGENCY: Enforcement and Compliance, International Trade Administration, Department of Commerce.

SUMMARY: As a result of this sunset review, the Department of Commerce (Commerce) finds that revocation of the antidumping duty (AD) order on silicon metal from the Russian Federation (Russia) would be likely to lead to continuation or recurrence of dumping. The magnitude of the dumping margins likely to prevail are indicated in the “Final Results of Sunset Review” section of this notice.

DATES: Applicable October 10, 2019.

FOR FURTHER INFORMATION CONTACT: Mark Hoadley, AD/CVD Operations, Office VII, Enforcement and Compliance, International Trade Administration, U.S. Department of Commerce, 1401 Constitution Avenue NW, Washington, DC 20230; telephone: (202) 482-3148.

SUPPLEMENTARY INFORMATION:

Background

On March 26, 2003, Commerce issued an AD order on silicon metal from Russia.¹ On July 2, 2014, Commerce published the notice of continuation of the Order pursuant to the second sunset review.² On June 4, 2019, Commerce published the notice of initiation of the third sunset review of the Order.³

¹ See Antidumping Duty Order: Silicon Metal from Russia, 68 FR 14578 (March 26, 2003) (Antidumping Duty Order), amended by Silicon Metal From the Russian Federation; Notice of Amended Final Determination Pursuant to Court Decision, 71 FR 8277 (February 16, 2006) (Amended Final Determination).

² See Silicon Metal from the Russian Federation: Continuation of Antidumping Duty Order, 79 FR 37718 (July 2, 2014).

³ See Initiation of Five-Year (Sunset) Reviews, 84 FR 25741 (June 4, 2019).

On June 7, 2019, Commerce received notice of intent to participate from Globe Metallurgical Inc. (Globe), within the deadline specified in 19 CFR 351.218(d)(1)(i).⁴ On July 3, 2019, Commerce received adequate substantive responses from Globe within the 30-day period specified in 19 CFR 351.218(d)(3)(i).⁵ Globe, a domestic producer of the subject merchandise, claimed interested party status under section 771(9)(C) of the Tariff Act of 1930, as amended (the Act).⁶ We received no substantive responses from any respondent interested parties. As a result, pursuant to section 751(c)(3)(B) of the Act and 19 CFR 351.218(e)(1)(ii)(C)(2), Commerce conducted an expedited (120-day) sunset review of the Order.

⁴ See Globe's Letter, “Silicon Metal from Russia; Third Sunset Review; Notice of Intent to Participate,” dated June 7, 2019.

⁵ See Globe's Letter, “Silicon Metal from Russia; Third Sunset Review; Substantive Response of Globe Specialty Metals, Inc. to the Notice of Initiation,” dated July 3, 2019 (Globe's Substantive Response).

⁶ Id.

Scope of the Order

The product covered by this Order is silicon metal, which generally contains at least 96.00 percent but less than 99.99 percent silicon by weight. The merchandise covered by the Order also includes silicon metal from Russia containing between 89.00 and 96.00 percent silicon by weight, but containing more aluminum than the silicon metal which contains at least 96.00 percent but less than 99.99 percent silicon by weight. Silicon metal currently is classifiable under subheadings 2804.69.10 and 2804.69.50 of the Harmonized Tariff Schedule of the United States (HTSUS). The Order covers all silicon metal meeting the above specification, regardless of tariff classification.

Analysis of Comments Received

All issues raised for the final results of this sunset review are listed in the appendix to this notice and addressed in the Issues and Decision Memorandum.⁷ The issues discussed in the Issues and Decision Memorandum include the likelihood of the continuation or recurrence of dumping and the magnitude of the margins of dumping likely to prevail. The Issues and Decision Memorandum is a public document and is on file electronically via Enforcement and Compliance's Antidumping and Countervailing Duty Centralized Electronic Service System (ACCESS). ACCESS is available to registered users at http://access.trade.gov and in the Central Records Unit, room B8024 of the main Commerce building. In addition, a complete version of the Issues and Decision Memorandum can be accessed directly on the internet at http://enforcement.trade.gov/frn/. The signed and electronic versions of the Issues and Decision Memorandum are identical in content.

⁷ See Memorandum, “Issues and Decision Memorandum for the Expedited Second Sunset Review of the Antidumping Duty Order on Silicon Metal from the Russian Federation,” dated concurrently with, and hereby adopted by, this notice (Issues and Decision Memorandum).

Final Results of Sunset Review

Pursuant to sections 752(c)(1) and (3) of the Act, Commerce determines that revocation of the Order on silicon metal from the Russian Federation would be likely to lead to continuation or recurrence of dumping, and that the magnitude of the dumping margins likely to prevail would be weighted-average dumping margins up to 87.08 percent.

Administrative Protective Order (APO)

This notice also serves as the only reminder to parties subject to an APO of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing the final results of this expedited sunset review in accordance with sections 751(c), 752(c), and 777(i) of the Act, and 19 CFR 351.218.

Dated: October 2, 2019.
P. Lee Smith,
Deputy Assistant Secretary for Policy and Negotiations, Enforcement and Compliance.

Appendix

List of Topics Discussed in the Preliminary Decision Memorandum

I. Summary

II. History of the Order

III. Discussion of the Issues

IV. Final Results of Review

V. Recommendation

[FR Doc. 2019-22213 Filed 10-9-19; 8:45 am]

BILLING CODE 3510-DS-P